DEPARTMENT OF JUSTICE

Notice of Lodging of Consent Decree Pursuant to the Clean Water Act

In accordance with Departmental policy, 28 CFR 50.7, notice is hereby given that a proposed consent decree in United States v. New Castle County, Delaware, Delaware Department of Transportation, and the State of Delaware, Civil Action No.01:586-SLR, was lodged with the United States Court for the District of Delaware on August 29, 2001.

The proposed consent decree pertains to alleged violations of the Clean Water Act, 33 U.S.C. 1311 et seq. for the unpermitted discharge of pollutants into the navigable waters of the United States via New Castle County's and Delaware Department of Transportation's municipal separate storm sewer systems, and for failure to obtain an effective National Pollution Discharge Elimination System Response (“NPDES”) permit in violation of section 402 of the Clean Water Act, 33 U.S.C. 1342.

The proposed consent decree provides for the payment of $275,000 in civil penalties in the following amounts: $150,000 by defendant New Castle County, and $125,000 by defendant Delaware Department of Transportation. In addition, the consent decree requires New Castle County to extend a sanitary sewer to a group of New Castle County homes with failing septic systems and hooking up a minimum of 40 residential properties, up to a possible 85 properties. The consent decree requires the Delaware Department of Transportation to complete a stormwater retrofit project for a 5.58 mile long section of Interstate Highway 95.

The Department of Justice will receive, for a period of thirty (30) days from the date of this publication, comments relating to the proposed consent decree. Comments should be addressed to the United States Attorney's Office for the District of Delaware, 1201 N. Market Street, Suite 1100, Box 2046, Wilmington, Delaware 19899-2046, Attn. Judith M. Kinney, Assistant United States Attorney.

The proposed consent decree may be examined at the office of the United States Attorney, District of Delaware, 1201 N. Market Street, Wilmington, DE and at the Region III Office of the Environmental Protection Agency, 1650 Arch St., Philadelphia, PA 19103. A copy of the proposed consent decree may be obtained by mail from the Consent Decree Library, P.O. Box 7611, U.S. Department of Justice, Washington, DC 20044-7611. In requesting a copy please refer to the referenced case and enclose a check in the amount of $11.50 ($.25 per page reproduction cost), payable to the Consent Decree Library.

Dated: October 23, 2001.
Colm F. Connolly,
United States Attorney for the District of Delaware.

[FR Doc. 01-27200 Filed 10-29-01; 8:45 am]

BILLING CODE 4410-15-M